ENVIRONMENTAL PROTECTION AGENCY

[FRL-6725-5]

National Drinking Water Advisory Council; Contaminant Candidate List and 6-Year Review of Existing Regulations Working Group; Notice of Open Meeting

AGENCY: Environmental Protection Agency (EPA).

ACTION: Notice.

SUMMARY: Under section 10(a)(2) of Public Law 92-423, “The Federal Advisory Committee Act,” notice is hereby given that a meeting of the Contaminant Candidate List (CCL) Regulatory Determination and 6-Year Review of Existing Regulations Working Group of the National Drinking Water Advisory Council established under the Safe Drinking Water Act, as amended (42 U.S.C. S300f et seq.), will be held July 10, 2000, from 1:00 pm-5:00 pm ET (approximately), at the U.S. EPA, 401 M Street, S.W., Suite 925B, Washington, D.C. 20460. The meeting is open to the public to observe and statements will be taken from the public as time allows. Seating is limited.

This is the second of three scheduled meetings to address the 6-Year Review of Existing Regulations. The Working Group will recommend a protocol for selecting existing NPDWRs for possible revision and develop specific recommendations for analyzing and presenting the available scientific data (The Working Group does not plan to discuss specific contaminants as a part of this exercise.) Final recommendations will be forwarded to the full NDWAC for further consideration.

At the last meeting, the Working Group formed three sub-groups to revise specific portions of the strawman protocol. The sub-groups will forward their final products to EPA for consolidation. EPA will consolidate comments and distribute a revised draft to Working Group members for discussion on July 10, 2000.

For more information, contact April McLaughlin, Designated Federal Officer, Contaminant Candidate List and Regulatory Determination and 6-Year Review of Existing Regulations Working Group, U.S. EPA (4607), Office of Ground Water and Drinking Water, 401 M Street SW, Washington, DC 20460. The email address is: mclaughlin.april@epa.gov. or call 202-260-5524.

Dated: June 20, 2000.
Janet Pawlukiewicz,
Acting Deputy Director, Office of Ground Water and Drinking Water.

[FR Doc. 00-16179 Filed 6-26-00; 8:45 am]

BILLING CODE 6560-50-P